NUCLEAR REGULATORY COMMISSION

[NRC-2015-0204]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from August 6, 2015, to August 17, 2015. The last biweekly notice was published on August 14, 2015.

DATES: Comments must be filed October 1, 2015. A request for a hearing must be filed by November 2, 2015.

ADDRESSES: You may submit comments by any of the following methods (unless this document describes a different method for submitting comments on a specific subject):

• Federal Rulemaking Web site: Go to http://www.regulations.gov and search for Docket ID NRC-2015-0204. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Beverly Clayton, Office of Nuclear Reactor Regulation, U.S. Nuclear Regulatory Commission, Washington, DC 20555-0001; telephone: 301-415-3475, email: Beverly.Clayton@nrc.gov.

SUPPLEMENTARY INFORMATION:

I. Obtaining Information and Submitting Comments

A. Obtaining Information

Please refer to Docket ID NRC-2015-0204 when contacting the NRC about the availability of information for this action. You may obtain publicly-available information related to this action by any of the following methods:

• Federal Rulemaking Web site: Go to http://www.regulations.gov and search for Docket ID NRC-2015-0204.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0204, facility name, unit number(s), application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Dominion Nuclear Connecticut, Inc., Docket No. 50-423, Millstone Power Station, Unit No. 3 (MPS3), New London County, Connecticut

Date of amendment request: May 8, 2015. A publicly-available version is in ADAMS under Accession No. ML15134A244.

Description of amendment request: The amendment would revise the Technical Specifications (TSs) to enable the use of Dominion nuclear safety and reload core design methods for MPS3 and address the issues identified in three Westinghouse communication documents. The amendment would also update approved reference methodologies in TS 6.9.1.6.b.

Basis for proposed no significant hazards consideration determination: As required by 10 CFR 50.91(a), the licensee has provided its analysis of the issue of no significant hazards consideration, which is presented below:

1. Does the proposed [amendment] involve a significant increase in the probability or consequences of any accident previously evaluated?

Response: No.

The Dominion analysis methods do not make any contribution to the potential accident initiators and thus do not increase the probability of any accident previously evaluated. The use of the approved Dominion analysis methods will not increase the probability of an accident because plant systems, structures, and components (SSC) will not be affected or operated in a different manner, and system interfaces will not change.

Since the applicable safety analysis and nuclear core design acceptance criteria will be satisfied when the Dominion analysis methods are applied to MPS3, the use of the approved Dominion analysis methods does not increase the potential consequences of any accident previously evaluated. The use of the approved Dominion methods will not result in a significant impact on normal operating plant releases, and will not increase the predicted radiological consequences of postulated accidents described in the FSAR [final safety analysis report]. The proposed resolution of Westinghouse notification documents NSAL-09-5, Rev. 1, 06-1C-03 and NSAL-15-1 is intended to address deficiencies identified within the existing MPS3 Technical Specifications to return them to their as designed function and does not result in actions that would increase the probability of any accident previously evaluated.

Therefore, the proposed amendment does not involve a significant increase in the probability or the consequences of any accident previously evaluated.

2. Does the proposed [amendment] create the possibility of a new or different kind of accident from any previously evaluated?

Response: No.

The use of Dominion analysis methods and the Dominion statistical design limit (SDL) for fuel departure from nucleate boiling ratio (DNBR) and fuel critical heat flux (CHF) does not impact any of the applicable core design criteria. All pertinent licensing basis limits and acceptance criteria will continue to be met. Demonstrated adherence to these limits and acceptance criteria precludes new challenges to SSCs that might introduce a new type of accident. All design and performance criteria will continue to be met and no new single failure mechanisms will be created. The use of the Dominion methods does not involve any alteration to plant equipment or procedures that might introduce any new or unique operational modes or accident precursors. The proposed resolution of Westinghouse notification documents NSAL-09-5, Rev. 1, 06-IC-03 and NSAL-15-1 does not involve the alteration of plant equipment or introduce unique operational modes or accident precursors.

Therefore, the proposed amendment does not create [the possibility of] a new or different kind of accident from any accident previously evaluated.

3. Does the proposed [amendment] involve a significant reduction in the margin of safety?

Response: No.

Nuclear core design and safety analysis acceptance criteria will continue to be satisfied with the application of Dominion methods. Meeting the analysis acceptance criteria and limits ensure that the margin of safety is not significantly reduced. Nuclear core design and safety analysis acceptance criteria will continue to be satisfied with the application of Dominion methods. In particular, use of [the model] VIPRE-D with the proposed safety limits provides at least a 95% probability at a 95% confidence level that DNBR will not occur (the 95/95 DNBR criterion). The required DNBR margin of safety for MPS3, which is the margin between the 95/95 DNBR criterion and clad failure, is therefore not reduced. The proposed resolution of Westinghouse notification documents NSAL-09-5, Rev. 1, 06-IC-03 and NSAL-15-1 does not propose actions that would result in a significant reduction in margin to safety.

Therefore, the proposed amendment does not involve a significant reduction in [the] margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Benjamin Beasley.

Duke Energy Carolinas, LLC, Docket Nos. 50-413 and 50-414, Catawba Nuclear Station, Units 1 and 2, York County, South Carolina

Date of amendment request: June 12, 2015. A publicly-available version is in ADAMS under Accession No. ML15168A009.

Description of amendment request: The proposed amendments would modify Technical Specification Table 3.4.1-1. Specifically, the proposed change would modify the minimum required Reactor Coolant System total flow rates for Catawba Nuclear Station, Unit Nos. 1 and 2.

Basis for proposed no significant hazards consideration determination: As required by 10 CFR 50.91(a), the licensee has provided its analysis of the issue of no significant hazards consideration, which is presented below:

1. Does the proposed amendment involve a significant increase in the probability or consequences of an accident previously evaluated?

Response: No.

The reduction in Catawba Unit 1 Reactor Coolant System (RCS) minimum measured flow from 388,000 gpm to 384,000 gpm and the reduction in Catawba Unit 2 RCS minimum measured flow from 390,000 gpm to 387,000 gpm will not change the probability of actuation of any Engineered Safeguard Feature or any other device. The consequences of previously analyzed accidents have been found to be insignificantly different when these reduced flow rates are assumed. The system transient response is not affected by the initial RCS flow assumption unless the initial assumption is so low as to impair the steady state core cooling capability or the steam generator heat transfer capability. This is clearly not the case with the small proposed reductions in RCS flow. The proposed changes will not result in the modification of any system interface that would increase the likelihood of an accident since these events are independent of the proposed changes. The proposed amendments will not change, degrade, or prevent actions or alter any assumptions previously made in evaluating the radiological consequences of an accident described in the Updated Final Safety Analysis Report (UFSAR).

Therefore, the proposed amendments do not result in the increase in the probability or consequences of an accident previously evaluated.

2. Does the proposed amendment create the possibility of a new or different kind of accident from any accident previously evaluated?

Response: No.

These changes do not create the possibility of a new or different kind of accident from any accident previously evaluated. No new accident causal mechanisms are created as a result of NRC approval of this amendment request. No changes are being made to the facility which would introduce any new accident causal mechanisms. This amendment request does not impact any plant systems that are accident initiators.

3. Does the proposed amendment involve a significant reduction in the margin of safety?

Response: No.

Implementation of these amendments would not involve a significant reduction in the margin of safety. The decreases in Catawba Unit 1 and Unit 2 RCS minimum measured flow have been analyzed and found to have an insignificant effect on the applicable transient analyses as described in the UFSAR. Margin of safety is related to the confidence of the fission product barriers being able to perform their accident mitigating functions. These fission product barriers include the fuel cladding, the RCS, and the containment. The proposed amendments will have no impact upon the ability of these barriers to function as designed. Consequently, no safety margins will be impacted.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Robert J. Pascarelli.

Entergy Operations, Inc., Docket No. 50-382, Waterford Steam Electric Station, Unit 3 (WF3), St. Charles Parish, Louisiana

Date of amendment request: June 17, 2015. A publicly-available version is in ADAMS under Accession No. ML15170A121.

Description of amendment request: The proposed amendment would modify the WF3 technical specifications (TSs) by relocating specific surveillance frequencies to a licensee-controlled program.

Basis for proposed no significant hazards consideration determination: As required by 10 CFR 50.91(a), the licensee has provided its analysis of the issue of no significant hazards consideration, with NRC staff revisions provided in [brackets], which is presented below:

1. Does the proposed change involve a significant increase in the probability or consequences of any accident previously evaluated?

Response: No.

The proposed change relocates the specified frequencies for periodic surveillance requirements to licensee control under a new Surveillance Frequency Control Program [SFCP]. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Does the proposed change create the possibility of a new or different kind of accident from any previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed change does not create the possibility of a new or different kind of accident from any accident previously evaluated.

3. Does the proposed change involve a significant reduction in the margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, Entergy will perform a probabilistic risk evaluation using the guidance contained in NRC approved NEI [Nuclear Energy Institute] 04-10, Rev. 1, in accordance with the TS SFCP. NEI 04-10, Rev. 1, methodology provides reasonable acceptance guidelines and methods for evaluating the risk increase of proposed changes to surveillance frequencies consistent with Regulatory Guide 1.177.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Meena K. Khanna.

Entergy Operations, Inc., Docket No. 50-382, Waterford Steam Electric Station, Unit 3 (WF3), St. Charles Parish, Louisiana

Date of amendment request: June 29, 2015. A publicly-available version is in ADAMS under Accession No. ML15182A152.

Description of amendment request: The amendment changes the WF3 Cyber Security Plan (CSP) Implementation Schedule Milestone 8 full implementation date and proposes a revision to the existing Physical Protection license condition.

Basis for proposed no significant hazards consideration determination: As required by 10 CFR 50.91(a), the licensee has provided its analysis of the issue of no significant hazards consideration, which is presented below:

1. Does the proposed change involve a significant increase in the probability or consequences of an accident previously evaluated?

Response: No.

The proposed change to the CSP Implementation Schedule is administrative in nature. This change does not alter accident analysis assumptions, add any initiators, or affect the function of plant systems or the manner in which systems are operated, maintained, modified, tested, or inspected. The proposed change does not require any plant modifications which affect the performance capability of the structures, systems, and components relied upon to mitigate the consequences of postulated accidents and has no impact on the probability or consequences of an accident previously evaluated.

Therefore, the proposed change does not involve a significant increase in the probability or consequences of an accident previously evaluated.

2. Does the proposed change create the possibility of a new or different kind of accident from any accident previously evaluated?

Response: No.

The proposed change to the CSP Implementation Schedule is administrative in nature. This proposed change does not alter accident analysis assumptions, add any initiators, or affect the function of plant systems or the manner in which systems are operated, maintained, modified, tested, or inspected. The proposed change does not require any plant modifications which affect the performance capability of the structures, systems, and components relied upon to mitigate the consequences of postulated accidents and does not create the possibility of a new or different kind of accident from any accident previously evaluated.

Therefore, the proposed change does not create the possibility of a new or different kind of accident from any accident previously evaluated.

3. Does the proposed change involve a significant reduction in a margin of safety?

Response: No.

Plant safety margins are established through limiting conditions for operation, limiting safety system settings, and safety limits specified in the technical specifications. The proposed change to the CSP Implementation Schedule is administrative in nature. In addition, the milestone date delay for full implementation of the CSP has no substantive impact because other measures have been taken which provide adequate protection during this period of time. Because there is no change to established safety margins as a result of this change, the proposed change does not involve a significant reduction in a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Meena K. Khanna.

Florida Power & Light Company, Docket Nos. 50-250 and 50-251, Turkey Point Nuclear Generating Unit Nos. 3 and 4, Miami-Dade County, Florida

Date of amendment request: April 16, 2015. A publicly-available version is in ADAMS under Accession No. ML15119A222.

Description of amendment request: The amendments would revise the Technical Specifications related to the boric acid tank (BAT) to reflect a correction to the instrument uncertainty calculation.

Basis for proposed no significant hazards consideration determination: As required by 10 CFR 50.91(a), the licensee has provided its analysis of the issue of no significant hazards consideration, which is presented below:

1. Does the proposed change involve a significant increase in the probability or consequences of an accident previously evaluated?

Response: No.

Revising the minimum acceptable BAT volume curves for one and two unit operation will not increase the probability of occurrence of an accident. The proposed revision to Figure 3.1-2 corrects the errors identified in the uncertainty calculation for one and two unit operation. Revising the minimum acceptable BAT volume curves provide better assurance that the BATs will continue to perform their required function, thereby ensuring the consequences of accidents previously evaluated are not increased.

Therefore, the proposed change does not involve a significant increase in the probability or consequences of an accident previously evaluated.

2. Does the proposed change create the possibility of a new or different kind of accident from any accident previously evaluated?

Response: No.

The proposed change will not install any new or different equipment or modify equipment in the plant. The proposed change will not alter the operation or function of structures, systems or components. The response of the plant and the operators following a design basis accident is unaffected by this change. The proposed change does not introduce any new failure modes and the design basis of the BATs is maintained at the revised minimum volumes.

Therefore, the proposed change will not create the possibility of a new or different kind of accident from any previously evaluated.

3. Does the proposed change involve a significant reduction in-the margin of safety?

Response: No.

The proposed change corrects the uncertainty related to BAT volume measurement. The proposed minimum acceptable BAT volume curves for one unit and two unit operation will provide better assurance that adequate shutdown margin is available for any post shutdown time. The limits used in the safety analysis are not affected.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: William S. Blair, Managing Attorney—Nuclear, Florida Power & Light Company, 700 Universe Blvd., MS LAW/JB, Juno Beach, FL 33408-0420.

NRC Branch Chief: Shana R. Helton.

South Carolina Electric & Gas Company, Docket Nos. 52-027 and 52-028, Virgil C. Summer Nuclear Station (VCSNS), Units 2 and 3, Fairfield County, South Carolina

Date of amendment request: July 6, 2015. A publicly-available version is in ADAMS under Accession No. ML15188A275.

Description of amendment request: The proposed change would amend Combined License Nos. NPF-93 and NPF-94 for the VCSNS Units 2 and 3. The requested amendment proposes to modify the existing feedwater controller logic to allow the controller program to respond as required to various plant transients while minimizing the potential for false actuation. Because, this proposed change requires a departure from Tier 1 information in the Westinghouse Advanced Passive 1000 Design Control Document (DCD), the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes will modify the control logic for actuation of the startup feedwater (SFW) pumps to support their defense-in-depth function of core decay heat removal. The instrumentation used for actuation of the SFW pumps in their defense-in-depth function are not initiators of any accident. The proposed control logic uses different instrument tag numbers than the current design. The instruments used for the actuation of this function exist as a part of the current design; therefore this proposed change does not require any additional instrumentation. These instruments, to be included as part of the Design Reliability Assurance Program (D-RAP), will be held to the same enhanced quality assurance (QA) requirements as the current instruments and therefore neither safety, performance, nor reliance will be reduced as a part of this change.

Additionally, the proposed changes do not adversely affect any accident initiating event or component failure, thus accidents previously evaluated are not adversely affected. In the event of loss of offsite power that results in a loss of main feedwater (MFW) supply, the SFW pumps automatically supply feedwater to the steam generators to cool down the reactor under emergency shutdown conditions. The standby source motor control center circuit powers each of the two SFW pumps and their associated instruments and valves. The pump discharge isolation valves are motor-operated and are normally closed and interlocked with the SFW pumps. In the event of loss of offsite power, the onsite standby power supply diesel generators will power the SFW pumps. If both the normal [alternating current] ac power and the onsite standby ac power are unavailable, these valves will fail “as-is.” The pump suction header isolation valves are pneumatically actuated. The main and startup feedwater system (FWS) also has temperature instrumentation in the pump discharge that would permit monitoring of the SFW temperature. This proposed change therefore has no impact on the ability of the AP1000 plant to cool down under emergency shutdown conditions or during a loss of offsite power event.

No function used to mitigate a radioactive material release and no radioactive material release source term is involved, thus the radiological releases in the accident analyses are not adversely affected.

Therefore, the proposed amendment does not involve a significant increase in the probability or consequences of an accident previously evaluated.

2. Does the proposed amendment create the possibility of a new or different kind of accident from any accident previously evaluated?

Response: No.

The proposed changes will modify the control logic for actuation of the startup feedwater (SFW) pumps to support their defense-in-depth function of core decay heat removal. The instrumentation used for actuation of the SFW pumps in their defense-in-depth function are not initiators of any accident. The proposed control logic uses different instrument tag numbers than the current design. However, the instruments used for the actuation of this function already exist as a part of the current design and so this change does not require any additional instrumentation. These instruments, to be included as part of the D-RAP, will be held to the same enhanced QA requirements as the current instruments and so neither safety, performance, nor reliance will be reduced as a part of this change. Furthermore, since the D-RAP ensures consistency with the Probabilistic Risk Assessment (PRA), the changes do not impact the PRA. The proposed changes would not introduce a new failure mode, fault, or sequence of events that could result in a radioactive material release. The proposed change does not alter the design, configuration, or method of operation of the plant beyond standard functional capabilities of the equipment.

Therefore, the proposed amendment does not create the possibility of a new or different kind of accident from any accident previously evaluated.

3. Does the proposed amendment involve a significant reduction in a margin of safety?

Response: No.

The proposed changes will modify the control logic for actuation of the startup feedwater (SFW) pumps to support their defense-in-depth function of core decay heat removal. These changes will have no negative impacts on the safety margin associated with the design functions of the SFW pumps. The proposed logic changes will only resolve the current conditions associated with undesired start up signals for the SFW pumps. The changes set forth in this amendment correct the actuation logic of the SFW pumps, so that the feedwater controller logic is now aligned with the guidance provided in the Advanced Light Water Reactor Utility Requirements Document (ALWR URD). In addition, the operation of the startup feedwater system function is not credited to mitigate a design-basis accident. Since there is no change to an existing design basis limit/criterion, design function, or regulatory criterion no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence J. Burkhart.

III. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Exelon Generation Company, LLC, Docket No. 50-289, Three Mile Island Nuclear Station, Unit 1 (TMI-1), Dauphin County, Pennsylvania

Date of amendment request: July 23, 2015, as supplemented by letter dated July 28, 2015. Publicly-available versions are in ADAMS under Accession Nos. ML15204A843 and ML15209A960, respectively.

Brief description of amendment request: The proposed amendment would modify the technical specifications to allow for the temporary connection of the borated water storage tank to non-seismic piping for cleanup and recirculation to support activities associated with the TMI-1 Fall 2015 Refueling Outage and Fuel Cycle 21 operation.

Date of publication of individual notice in Federal Register: August 7, 2015 (80 FR 47529).

Expiration date of individual notice: September 8, 2015 (public comments); October 6, 2015 (hearing requests).

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Exelon Generation Company, LLC, Docket Nos. 50-317 and 50-318, Calvert Cliffs Nuclear Power Plant, Unit Nos. 1 and 2, Calvert County, Maryland

Date of amendment request: May 1, 2014, as supplemented by letters dated May 1, 2015, and July 30, 2015.

Brief description of amendments: The amendments revised the Technical Specifications (TSs) to require that changes to specific surveillance frequencies will be made in accordance with Nuclear Energy Institute 04-10, Revision 1, “Risk-Informed Technical Specifications Initiative 5b, Risk-Informed Method for Control of Surveillance Frequencies.” The change is the adoption of NRC-approved Technical Specification Task Force (TSTF) Standard Technical Specifications Change Traveler TSTF-425, Revision 3, “Relocate Surveillance Frequencies to Licensee Control—RITSTF [Risk-Informed TSTF] Initiative 5b.”

Date of issuance: August 17, 2015.

Effective date: As of the date of issuance and shall be implemented within 120 days of issuance.

Amendment Nos.: 314 and 292. A publicly-available version is in ADAMS under Accession No. ML15211A005; documents related to these amendments are listed in the Safety Evaluation enclosed with the amendments.

Renewed Facility Operating License Nos. DPR-53 and DPR-69: Amendments revised the Renewed Facility Operating Licenses and TSs.

Date of initial notice in Federal Register: July 22, 2014 (79 FR 42549). The supplemental letters dated May 1, 2015, and July 30, 2015, provided additional information that clarified the application, did not expand the scope of the application as originally noticed, and did not change the NRC staff's original proposed no significant hazards consideration determination as published in the Federal Register.

The Commission's related evaluation of the amendment is contained in a Safety Evaluation dated August 17, 2015.

No significant hazards consideration comments received: No.

Exelon Generation Company, LLC, Docket Nos. 50-237 and 50-249, Dresden Nuclear Power Station, Units 2 and 3, Grundy County, Illinois

Docket Nos. 50-254 and 50-265, Quad Cities Nuclear Power Station, Units 1 and 2, Rock Island County, Illinois

Date of application for amendments: December 19, 2013, as supplemented by letter dated June 29, 2015.

Brief description of amendments: The proposed amendments would revise Technical Specifications Section 5.6.5, “Core Operating Limits Report (COLR),” to add an NRC approved topical report reference to the list of analytical methods that are used to determine the core operating limits. Specifically, the proposed change adds a reference to Westinghouse topical report WCAP-16865-P-A, “Westinghouse BWR ECCS [Boiling-Water Reactor Emergency Core Cooling System] Evaluation Model Updates: Supplement 4 to Code Description, Qualification and Application.”

Date of issuance: August 5, 2015.

Effective date: As of the date of issuance and shall be implemented within 60 days from the date of issuance.

Amendment Nos.: 247, 240, 260 and 255. A publicly-available version is in ADAMS under Accession No, ML15183A351; documents related to these amendments are listed in the Safety Evaluation enclosed with the amendments.

Renewed Facility Operating License Nos. DPR-19, DPR-25, DPR-29 and DPR-30. The amendments revised the Technical Specifications and License.

Date of initial notice in Federal Register: July 8, 2014 (79 FR 38577). The June 29, 2015, supplement contained clarifying information and did not change the NRC staff's initial proposed finding of no significant hazards consideration.

The Commission's related evaluation of the amendments is contained in a Safety Evaluation dated August 5, 2015.

No significant hazards consideration comments received: No.

Exelon Generation Company, LLC and PSEG Nuclear LLC, Docket No. 50-278, Peach Bottom Atomic Power Station, Unit 3, York and Lancaster Counties, Pennsylvania

Date of amendment request: May 29, 2015.

Brief description of amendment: The amendment changed a license condition pertaining to the submittal of a report containing revised analysis for the replacement steam dryer. Specifically, the amendment reduced the length of time for the submittal of the report from 90 days prior to the start of the extended power uprate (EPU) outage to 30 days prior to the start of the EPU outage.

Date of issuance: August 11, 2015.

Effective date: As of the date of issuance, to be implemented within 21 days of issuance.

Amendment No.: 305. A publicly-available version is in ADAMS under Accession No. ML15189A185; documents related to this amendment are listed in the Safety Evaluation enclosed with the amendment.

Renewed Facility Operating License No. DPR-56: The amendment revised the Renewed Facility Operating License.

Date of initial notice in Federal Register: June 10, 2015 (80 FR 32991).

The Commission's related evaluation of the amendment is contained in a Safety Evaluation dated August 11, 2015.

No significant hazards consideration comments received: No.

FirstEnergy Nuclear Operating Company, Docket No. 50-440, Perry Nuclear Power Plant, Unit No. 1, Lake County, Ohio

Date of amendment request: November 24, 2014, as supplemented by letter dated May 12, 2015.

Brief description of amendment: The amendment revised the battery capacity testing surveillance requirements in the technical specifications to reflect test requirements when the battery is near end of life.

Date of issuance: August 17, 2015.

Effective date: As of the date of issuance and shall be implemented within 60 days of issuance.

Amendment No.: 170. A publicly-available version is in ADAMS under Accession No. ML15201A529; documents related to this amendment are listed in the Safety Evaluation enclosed with the amendment.

Facility Operating License No. NPF-58: Amendment revised the Facility Operating License and Technical Specifications.

Date of initial notice in Federal Register: March 17, 2015 (80 FR 13907). The supplemental letter dated May 12, 2015, provided additional information that clarified the application, did not expand the scope of the application as originally noticed, and did not change the staff's original proposed no significant hazards consideration determination as published in the Federal Register.

The Commission's related evaluation of the amendment is contained in a Safety Evaluation dated August 17, 2015.

No significant hazards consideration comments received: No.

Florida Power & Light Company, et al., Docket Nos. 50-335 and 50-389, St. Lucie Plant, Unit Nos. 1 and 2, St. Lucie County, Florida

Date of amendment request: August 8, 2014.

Brief description of amendments: The amendments revised the Technical Specifications (TSs) by removing TS 3/4.4.7, “Chemistry,” which provides limits on the oxygen, chloride, and fluoride content in the reactor coolant system to minimize corrosion. The amendments require the licensee to relocate the requirements to the Updated Final Safety Analysis Report to be controlled in accordance with 10 CFR 50.59, “Changes, tests, and experiments.”

Date of issuance: August 14, 2015.

Effective date: As of the date of issuance and shall be implemented within 60 days of issuance.

Amendment Nos.: 225 and 175. A publicly-available version is in ADAMS under Accession No. ML15161A442; documents related to these amendments are listed in the Safety Evaluation (SE) enclosed with the amendments.

Renewed Facility Operating License Nos. DPR-67 and NPF-16: Amendments revised the TSs.

Date of initial notice in Federal Register: October 28, 2014 (79 FR 64225).

The Commission's related evaluation of the amendments is contained in an SE dated August 14, 2015.

No significant hazards consideration comments received: No.

Florida Power & Light Company, Docket Nos. 50-250 and 50-251, Turkey Point Nuclear Generating Unit Nos. 3 and 4, Miami-Dade County, Florida

Date of application for amendments: August 29, 2014.

Brief description of amendments: The amendments revised the Technical Specifications (TSs) by removing TS 3/4.4.7, “Chemistry,” which provides limits on the oxygen, chloride, and fluoride content in the reactor coolant system to minimize corrosion. The amendments require the licensee to relocate the requirements to the Updated Final Safety Analysis Report and related procedures to be controlled in accordance with 10 CFR 50.59, “Changes, tests, and experiments.”

Date of issuance: August 14, 2015.

Effective date: As of the date of issuance and shall be implemented within 60 days of issuance.

Amendment Nos.: 265 and 260. The amendments are in ADAMS under Accession No. ML15205A174; documents related to these amendments are listed in the Safety Evaluation enclosed with the amendments.

Renewed Facility Operating License Nos. DPR-31 and DPR-41: Amendments revised the TSs.

Date of initial notice in Federal Register: November 25, 2014 (79 FR 70216).

The Commission's related evaluation of the amendments is contained in a Safety Evaluation dated August 14, 2015.

No significant hazards consideration comments received: No.

Omaha Public Power District, Docket No. 50-285, Fort Calhoun Station, Unit No. 1, Washington County, Nebraska

Date of amendment request: May 16, 2014, as supplemented by letters dated January 9, March 27, and July 2, 2015.

Brief description of amendment: The amendment revised the Updated Safety Analysis Report to allow pipe stress analysis of non-reactor coolant system safety-related piping to be performed in accordance with the American Society of Mechanical Engineers Boiler and Pressure Vessel Code, Section III, 1980 Edition (no Addenda) as an alternative to the current Code of Record (i.e., United States of America Standards B31.7, 1968 (DRAFT) Edition).

Date of issuance: August 10, 2015.

Effective date: As of the date of issuance and shall be implemented within 120 days from the date of issuance.

Amendment No.: 283. A publicly-available version is in ADAMS under Accession No. ML15209A802; documents related to this amendment are listed in the Safety Evaluation enclosed with the amendment.

Renewed Facility Operating License No. DPR-40: The amendment revised the licensing basis as described in the Updated Safety Analysis Report.

Date of initial notice in Federal Register: July 8, 2014 (79 FR 38593). The supplemental letters dated January 9, March 27, and July 2, 2015, provided additional information that clarified the application, did not expand the scope of the application as originally noticed, and did not change the staff's original proposed no significant hazards consideration determination as published in the Federal Register.

The Commission's related evaluation of the amendment is contained in a safety evaluation dated August 10, 2015.

No significant hazards consideration comments received: No.

Tennessee Valley Authority, Docket No. 50-390, Watts Bar Nuclear Plant, Unit 1, Rhea County, Tennessee

Date of amendment request: April 1, 2015.

Brief description of amendment: The amendment revised the Cyber Security Plan for Watts Bar Nuclear Plant, Unit 1 to illustrate the “Bright-Line” between the critical digital assets that in the scope of the Watts Bar Nuclear Plant, Unit 1 Cyber Security Plan and those that are under the jurisdiction of the Federal Energy Regulatory Commission.

Date of issuance: August 7, 2015.

Effective date: As of the date of issuance and shall be implemented within 30 days of issuance.

Amendment No.: 101. A publicly-available version is in ADAMS under Accession No. ML15177A334; documents related to this amendment are listed in the Safety Evaluation enclosed with the amendment.

Facility Operating License No. NPF-90: Amendment revised the Facility Operating License.

Date of initial notice in Federal Register: June 1, 2015 (80 FR 31076).

The Commission's related evaluation of the amendment is contained in a Safety Evaluation dated August 7, 2015.

No significant hazards consideration comments received: No.

Dated at Rockville, Maryland, this 21st day of August, 2015.
For the Nuclear Regulatory Commission.
A. Louise Lund,
Acting Director, Division of Operating Reactor Licensing, Office of Nuclear Reactor Regulation.

[FR Doc. 2015-21432 Filed 8-31-15; 8:45 am]

BILLING CODE 7590-01-P